DEPARTMENT OF COMMERCE

International Trade Administration

[C-475-823]

Stainless Steel Plate in Coils from Italy; Rescission of Countervailing Duty Administrative Review

AGENCY: Import Administration, International Trade Administration, Department of Commerce.

ACTION: Notice of Rescission of the First Countervailing Duty Administration Review.

SUMMARY: In response to a May 31, 2000, request made by Acciai Speciali Terni S.p.A, a producer/exporter of stainless steel plate in coils from Italy, on July 7, 2000 (65 FR 41944), the Department of Commerce published the initiation of an administrative review of the countervailing duty order on stainless steel plate in coils from Italy, covering the period January 1, 1999, through December 31, 1999. This review has now been rescinded as a result of the timely withdrawal of the request for review by Acciai Speciali Terni S.p.A.

EFFECTIVE DATES: September 5, 2000.

FOR FURTHER INFORMATION CONTACT: Greg Campbell or Suresh Maniam, AD/CVD Enforcement, Group I, Office 1, Import Administration, U.S. Department of Commerce, 14th Street and Constitution Avenue, N.W., Washington, D.C. 20230; telephone: (202) 482-2239 and (202) 482-0176, respectively.

SUPPLEMENTARY INFORMATION:

Applicable Statute

Unless otherwise indicated, all citations to the statute are references to the provisions effective January 1, 1995, the effective date of the amendments made to the Tariff Act of 1930 (the Act) by the Uruguay Round Agreements Act. In addition, unless otherwise indicated, all citations to the Department of Commerce's (Department) regulations refer to 19 CFR part 351 (1999).

Background

On May 11, 1999, the Department published a countervailing duty order on stainless steel plate in coils from Italy (64 FR 25288). On May 31, 2000, Acciai Speciali Terni S.p.A. (AST), an Italian producer/exporter of stainless steel plate in coils, requested an administration review of the countervailing duty order on stainless steel plate in coils from Italy covering the period of January 1, 1999, through December 1, 1999. In accordance with 19 CFR 351.221(c)(1)(i), we published the initiation of the review on July 7, 2000 (65 FR 41944). On August 3, 2000, AST withdrew its request for review.

Rescission of Review

The Department's regulations, at 19 CFR 351.213(d)(1), provide that the Department will rescind an administrative review if a party that requested a review withdraws the request within 90 days of the date of publication of the notice of initiation of the requested review. AST withdrew its request for an administrative review on August 3, 2000, which is within the 90-day deadline. No other party requested a review of AST's sales. Therefore, the Department is rescinding this administrative review with respect to AST.

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This determination is issued and published in accordance with sections 751(a)(1) and 777(i)(1) of the Tariff Act of 1930, as amended.

Dated: August 29, 2000.
Richard W. Moreland,
Deputy Assistant Secretary for Import Administration.

[FR Doc. 00-22675 Filed 9-1-00; 8:45 am]

BILLING CODE 3510-DS-M